POSTAL SERVICE

Privacy Act of 1974, Computer Matching Program—Postal Service and State Agencies

AGENCY: Postal Service.

ACTION: Notice of Computer Matching Program—Postal Service and states maintaining public sex offender registries.

SUMMARY: The Postal Service plans to conduct an ongoing matching program to identify any current Postal Service employees who are required by state law to register on a state's public registry of sex offenders. State registries contain information about individuals who are statutorily required to register, having committed sexually-violent offenses against adults or children, certain other crimes against victims who are minors, or other comparable offenses. The Postal Service is undertaking this initiative to ascertain the suitability of individuals for certain positions or employment. The Postal Service will compare its payroll database for employees working in participating states against public records contained in the state sex offender registries.

DATES: The matching program will become effective no sooner than 30 days after notice of the matching program is sent to Congress and the Office of Management and Budget (OMB). Agreements with individual states will continue for 18 months from the effective date and may be extended for a period of time, up to 12 months, if certain conditions are met.

ADDRESSES: Written comments on this proposal should be mailed or delivered to the Records Office, Postal Service, 475 L'Enfant Plaza, SW., Room 5846, Washington, DC 20260-5353. Copies of all written comments will be available at the above address for public inspection and photocopying between 8 a.m. and 4 p.m., Monday through Friday.

FOR FURTHER INFORMATION CONTACT: Jane Eyre at 202-268-2608.

SUPPLEMENTARY INFORMATION: The Postal Service seeks to provide the public with accurate and efficient mail delivery to the more than 144 million businesses and residences in this country. Given the public nature of the Postal Service, published standards of conduct for Postal Service employees prohibit any employee from engaging in criminal, dishonest, or similar prejudicial conduct. The Postal Service plans to participate as the recipient agency in computer matches of current Postal Service employees who have been required as a matter of law to register on state sexual offender public registries. After extensively verifying the accuracy of the information, the Postal Service will use the information to determine whether the reported offenses may impact on an individual's suitability for certain positions or employment. The Postal Service will analyze each occurrence on a case-by-case basis to determine the appropriate action to take. In this regard, the Postal Service will consider the seriousness of the offense, the date of the offense, and the nature of the employee's position with the Postal Service.

The only data to be used in the match is public information, from both the Postal Service and the state agencies. The Postal Service will extract public information, including employees' name and work location, from its payroll database. This information is public information in accordance with Handbook AS-353, Guide to Privacy and Freedom of Information Act, section 5-2b(3) (available at www.usps.com/privacyoffice), and the Postal Service considers such data to be subject to disclosure requirements under the Freedom of Information Act. The data will be matched against participating state sexual offender registries, which are posted on various state Web sites for the public.

The Postal Service will take extensive efforts to ensure that the data is accurate. Postal inspectors will review the match report in order to verify that the person identified in the state sexual offender public registry is in fact a Postal Service employee. A postal inspector will then determine whether the person is properly included on the public registry by reviewing the relevant facts about the offense from information furnished by relevant law enforcement agencies, such as the arresting agency. The postal inspector will refer instances where the employee failed to provide any required notice of the offense to Postal Service management, or other instances considered employee misconduct, to the Office of Inspector General (OIG). The inspector or OIG special agent will prepare an investigative memorandum or report of investigation, respectively, which will be sent to the individual employee's installation head. The installation head will ensure that a case-by-case analysis is conducted regarding the appropriate action to be taken. The Postal Service will provide at least 30 days advance notice prior to the initiation of any adverse action against a matched individual (unless the Postal Service determines that public health or safety may be affected or threatened pursuant to 5 U.S.C. 552a(p)(3)).

The privacy of employees will be safeguarded and protected. The Postal Service will manage all data in strict accordance with the Privacy Act of 1974 and the terms of the matching agreement. Any verified data that is maintained will be managed within the parameters of the Privacy Act System of Record USPS 700.000, Inspection Service Investigative File System (last published April 29, 2005 (Volume 70, Number 82)); and, for cases referred to the OIG, data that is maintained will also be managed within the parameters of Privacy Act System of Record USPS 700.300, Inspector General Investigative Records (last published June 14, 2006 (Volume 71, Number 114)). To the extent that there are any disclosures of Postal Service payroll data (the state agencies will not have access to such data), such disclosures are authorized by the Privacy Act. Disclosures are authorized by a Privacy Act routine use applicable to the payroll system of records (as well as other personnel systems) that pertains to disclosures to federal and state agencies that are needed by the Postal Service or agency to make decisions regarding personnel matters; and under 5 U.S.C. 552a(b)(2) which authorizes disclosures that would be required under 5 U.S.C. 552 (the Freedom of Information Act).

Key privacy features of the matching agreement include the following:

• Requiring that the identity of matched individuals be verified and that the relevant facts of the offense be confirmed;

• Requiring appropriate security controls for the data match;

• Providing protections for employees, who appear as an initial match but who are not subsequently verified as belonging on the state registry of offenders; and

• Requiring the Postal Service to complete the verification, and provide at least 30 days advance notice, prior to the initiation of any adverse action against a matched individual (unless the Postal Service determines that public health and safety may be affected or threatened pursuant to 5 U.S.C. 552a(p)(3)).

The Postal Service intends to enter into matching agreements with the states using the template matching agreement below. If there is any substantive variation in a matching agreement with a state, the Postal Service will issue notice of that modified matching agreement in the Federal Register. Set forth below are the terms of the template-matching agreement, which provide the information required by the Privacy Act of 1974, as amended (5 U.S.C. 552a), and the Computer Matching and Privacy Protection Act of 1988 (Public Law 100-503).

Neva R. Watson,
Attorney, Legislative.

Memorandum of Agreement Between United States Postal Service and the State of ____

A. Introduction

The Postal Service plans to match extracts from its payroll system against the state of ____ registry of sexual offenders. Since the match compares a federal payroll system against a non-federal system, the computer match is subject to the computer match requirements of section (o) of the Privacy Act of 1974 (5 U.S.C. 552a), as amended by the Computer Matching and Privacy Protection Act of 1988 (Public Law 100-503). Section (o) requires a federal agency, in order to use records for a computer matching program, to enter into a written agreement with the non-federal agency that has been approved by the participant federal agency Data Integrity Board.

B. Purpose and Legal Authority

1. Purpose of the Matching Program

The purpose of this agreement is to set forth the terms under which a computer matching program will be conducted to identify Postal Service employees, who have been required to register with the state's sexual offender public registry. The registry contains information about individuals, who are required by state law to register as a sex offender, having committed sexually-violent offenses against adults or children, certain other crimes against victims who are minors, or other comparable offenses. The Postal Service is undertaking this initiative to determine whether reported offenses may affect an individual's suitability for certain positions or employment.

2. Legal Authority

The legal authority for undertaking this matching program is contained in the Postal Reorganization Act, 39 U.S.C. 401(10) and 404(a)(7). Section 401(10) of the Act grants the Postal Service “to have all other powers incidental, necessary, or appropriate to the carrying on of its functions, or the exercise of its specific powers,” and Section 404(a)(7) of the Act authorizes the Postal Service to “investigate postal offenses and civil matters relating to the Postal Service.”

C. Justification and Expected Results

The expected results of the match are to identify current Postal Service employees, who have been required as a matter of law to register on the state's sexual offender public registry. As described below, the Postal Service will take appropriate steps to verify the information is valid. In instances where a match is verified, the Postal Service will conduct a case-by-case analysis regarding the employee to determine the appropriate action to be taken. In this regard, the Postal Service will evaluate the seriousness of the offense, the date of the offense, and the nature of the postal position of the employee. Although monetary savings may result indirectly from the matching program due to the minimization of the exposure to the community of employees who pose a potential threat of harm to the public, the Postal Service does not estimate any specific cost savings. The purpose and value of the program is safety for the community and other Postal Service employees.

The principal alternative to using a computer matching program for identifying such individuals would be to conduct a manual comparison of Postal Service payroll records of employees with the state's sexual offender public registry. Given that the Postal Service employs thousands of employees in the state, this would impose significant administrative burden and financial costs.

D. Records Description

1. Systems of Records and Estimation of Number of Records Involved

The Postal Service will extract records from its Privacy Act System of Records (USPS 100.400), Personnel Compensation and Payroll Records, containing payroll records for approximately ____ current employees who work in the state of ____. The Postal Service will match the records with the state sex offender registry records for the state, which contain records for approximately ____listed offenders.

2. Data Elements To Be Used in the Match

The Postal Service will provide a data extract that will contain a list of employee names associated with a facility name and address. This list will be compared against the state file of registered sexual offenders, establishing “hits” (i.e., individuals common to both files on the basis of matched names and home or work locations). For each hit, the Postal Service will obtain the name and address of each individual.

3. Projected Starting and Completion Dates

The matching program is expected to begin in ____ 2006 and to continue in effect for 18 months unless terminated by either party before that time. The Postal Service will provide notice of the program to the Committee on Governmental Affairs of the Senate, the Committee on Government Reform and Oversight of the House of Representatives, and the Office of Management and Budget (OMB). Matches under this program will be conducted no often than quarterly. Matching activity under this program will begin no sooner than 30 days after transmittal of the matching agreements to Congress and OMB.

E. Notice Procedures

Constructive notice is given in the Federal Register notice that describes this matching program. In addition, the Postal Service will provide advance notice to relevant employee unions and management associations prior to the initiation of this matching program. For current and future employees completing a PS Form 2591, Application for Employment, a notice of possible computer matches involving their records will be included in the Privacy Act notice on that form.

F. Verification Procedures

The Postal Service and the state agency agree that the occurrence of a report containing any individual's name common to both files (a “hit”) is not conclusive evidence of a person's conduct, but merely an indication that further examination is warranted. No adverse action will be premised upon the raw results of the computer match. The Postal Service agrees to verify the information obtained in the match in accordance with the procedures described herein.

In all cases of matched names, postal inspectors will verify that the person identified in the state sexual offender public registry is a postal employee. If an employee's identity is established, a postal inspector will confirm and verify the relevant facts about the offense from relevant law enforcement sources. Examples of sources that may be reviewed include the National Crime Information Center (NCIC), the National Law Enforcement Telecommunication System (NLETS), and sources provided by state law enforcement agencies such as the arresting agency.

Prior to the Postal Service initiating any adverse action against any employee identified through this match, the employee will be given advance notice of, and an opportunity to contest, the action as provided in the applicable union agreements and Postal Service regulations, but not less than 30 days. The Postal Service may take appropriate action without providing such advance notice, however, if it determines that public health and safety may be affected or threatened pursuant to 5 U.S.C. 552a(p)(3).

The Postal Service will not maintain any lists of individuals representing non-hits. The match will be structured so as not to produce any records or lists of non-hits.

G. Disposition of Matched Items

Information about individuals who initially were “hits” but are not subsequently verified as being both a Postal Service employee and on the state sex offender list will be destroyed immediately upon making that verification. Other identifiable records created during the course of the matching program will be destroyed as soon as they have served the matching program's purpose and any legal retention requirements. Destruction will be by shredding, burning, or electronic erasure.

H. Security Procedures

1. Administrative

The Postal Service will protect the privacy of the subject individuals by strict adherence to the provisions of the Privacy Act of 1974. The Postal Service will maintain and safeguard data exchanged and any records created during the course of the matching program in accordance with the Privacy Act. Records will be kept in secured areas during working and non-working hours. Hardcopy records will be stored in locked desks or file cabinets and automated records will be stored in secured computer facilities with strict ADP controls. Access will be restricted to those individuals who are authorized to obtain access or need access to accomplish the matching program's purpose. The state agency will not have access to Postal Service payroll records or to any matched records, and will provide access to its system in accordance with state law.

2. Technical

The Inspection Service and the state agency will establish agreed upon procedures for the secure and expedited exchange of information between them. The Postal Service payroll data will be kept on the secured Inspection Service network. Access to the state registry will also be done on the secured Inspection Service network. While in the custody of the Inspection Service, the data will be stored in a secure database that meets all law enforcement security standards.

I. Records Usage, Duplication and Re-Disclosure Restrictions

The Postal Service will not (1) disclose records obtained for this matching program within or outside its agency except as authorized by law or when disclosure is necessary to conduct the matching program; (2) use the records in a manner incompatible with the purposes stated in this matching program; or (3) extract information concerning “non-matching” individuals (individuals not identified as being both a Postal Service employee and a sexual offenders registrant). The state agency will not have access to or retain Postal Service payroll data or any matched data under this program. The Postal Service will not duplicate data exchanged unless needed to conduct the matching program, and all stipulations herein will apply to any duplication. The Postal Service may disclose results of any matches for follow-up and verification, or for civil or criminal law enforcement investigation or prosecution, if the match uncovers activity that warrants such action.

J. Records Accuracy Assessments

The degree of accuracy of Postal Service data is considered extremely high since the automated system in which it is housed contains numerous edits that prevent invalid information from being entered. Steps to ensure accuracy include certifications and edits that prevent duplicate or multiple actions on the same employee in the same cycle, entry of keying errors, and entry of actions before their effective dates. The probability of encountering erroneous matches or other incorrect information through the use of these data is extremely small. Federal law contains safeguards requiring states that maintain registries to ensure the accuracy of their data. In particular, federal law requires states to obtain the fingerprints of each registrant. Moreover, the states must verify the accuracy of each registrant's address information at least annually and as often as every ninety days for certain offenders. The Postal Service will also use the verification procedure established above to ensure that it is relying upon accurate data.

K. Comptroller General Access

The Comptroller General may have access to all records necessary to monitor or verify compliance with this Agreement.

L. Duration of Matching Agreement

This agreement will become effective under the terms set forth in Paragraph D, and remain in effect for 18 months. At the end of this period, the agreement may be renewed for a period of up to one additional year if the Data Integrity Board determines within three months before the expiration date that the program has been conducted appropriately and should continue to be conducted without change. The agreement may be modified at any time if the modification is in writing and approved by both parties in accordance with the Privacy Act and agency guidelines.

[FR Doc. E6-17453 Filed 10-17-06; 8:45 am]

BILLING CODE 7710-12-P